DEPARTMENT OF HOUSING AND URBAN DEVELOPMENT

[Docket No. FR-4563-N-04]

Notice of Proposed Information Collection for Public Comment for the Contract Administration, Public and Indian Housing Programs

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: July 24, 2000.

ADDRESSES: Interested persons are invited to submit comments regarding this proposal. Comments should refer to the proposal by name and/or OMB Control number and should be sent to: Mildred M. Hamman, Reports Liaison Officer, Public and Indian Housing, Department of Housing and Urban Development, 451 7th Street, SW, Room 4238, Washington, DC 20410-5000.

FOR FURTHER INFORMATION CONTACT: Mildred M. Hamman, (202) 708-3642, extension 4128, for copies of the proposed forms and other available document. (This is not a toll-free number).

SUPPLEMENTARY INFORMATION: The Department will submit the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Contract Administration; Public and Indian Housing Programs.

OMB Control Number: 2577-0039.

Description of the need for the information and proposed use: Housing Agencies (HAs) must maintain certain records or submit certain documents to HUD with the award of oversight or construction contracts for development or new low-income housing developments or modernization of existing developments. The information is necessary for the proper performance of agency functions and compliance with the common rule for procurement (24 CFR 85.36(b)(2) and (9)). HAs must maintain a contract administration system and maintain sufficient records.

Agency form numbers, if applicable. HUD-5372; HUD-51000.

Members of affected public: State, local or Tribal Government Housing Agencies.

Estimation of the total number of hours needed to prepare the information collection including number of respondents, frequency of response, and hours of response: 2,100 responses, five contract administration documents (bidding control record, register of change orders and time extensions, disputes and claims records, HUD-5372, Construction Progress Schedule, HUD-51000, Schedule of Amounts for Contract Payments) will be submitted annually for a total of 11,608 responses. The amount of burden hours per document varies and will have a total burden of 14,506 hours.

Status of the proposed information collection: Extension.

Authority: Section 3506 of the Paperwork Reduction Act of 1995, 44 U.S.C. Chapter 35, as amended.

Dated: May 18, 2000.
Elinor Bacon,
Deputy Assistant Secretary for Public Housing Investments.

BILLING CODE 4210-33-M

[FR Doc. 00-13040 Filed 5-23-00; 8:45 am]

BILLING CODE 4210-33-C